DEPARTMENT OF COMMERCE

Census Bureau

Proposed Information Collection; Comment Request; 2019 National Survey of Psychiatrists

AGENCY: U.S. Census Bureau, Commerce.

ACTION: Notice.

SUMMARY: The Department of Commerce, as part of its continuing effort to reduce paperwork and respondent burden, invites the general public and other Federal agencies to take this opportunity to comment on the proposed 2019 National Survey of Psychiatrists, as required by the Paperwork Reduction Act of 1995.

DATES: To ensure consideration, written comments must be submitted on or before April 22, 2019.

ADDRESSES: Direct all written comments to Jennifer Jessup, Departmental Paperwork Clearance Officer, Department of Commerce, Room 6616, 14th and Constitution Avenue NW, Washington, DC 20230 (or via the internet at PRAcomments@doc.gov). You may also submit comments, identified by Docket Number USBC-2018-0018 to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, WordPerfect, or Adobe PDF file formats.

FOR FURTHER INFORMATION CONTACT: Requests for additional information or copies of the information collection instrument(s) and instructions should be directed to Elizabeth Sinclair, U.S. Census Bureau, ADDP, HQ-7H036F, 4600 Silver Hill Road, Washington, DC 20233-0001, (301)-763-3748 (or via the internet at Elizabeth.Sinclair@census.gov).

SUPPLEMENTARY INFORMATION:

I. Abstract

Sponsored by the U.S. Department of Health and Human Services' (HHS') Substance Abuse and Mental Health Services Administration (SAMHSA) Center for Substance Abuse Treatment (CSAT), the National Survey of Psychiatrists (NSP) is conducted to assist in fulfilling the Congressional mandates of Programmatic Authority 42 U.S.C. 290aa.

The NSP is designed to obtain the necessary data to determine the characteristics and distribution of psychiatrists throughout the United States, as well as emerging patterns in their employment characteristics. These data will provide the means for the evaluation and assessment of the evolving demographics, career employment patterns, and populations served, consistent with the goals of congressional mandates of the 42 U.S.C. 290aa. Such data have become particularly important for the need to better understand psychiatry workforce demands given the recent transformation of the healthcare system.

The proposed survey design for the 2019 NSP will include a probability sample (not to exceed 30,000 psychiatrists) selected from a sampling frame compiled from files provided by the American Medical Association (AMA) and American Osteopathic Association (AOA). These files constitute a universe frame of all physicians licensed in the 50 States and the District of Columbia. The Census Bureau is acquiring a segment of the files, that contain the flagged psychiatrists records. Sampling rates are set based on considerations of statistical precision of the estimates and the costs involved in obtaining reliable estimates. The survey will be multi-mode offering respondents the opportunity to participate via a web instrument and a paper questionnaire.

The 2019 NSP project includes plans to experimentally test the efficacy of a non-monetary incentive (that is, whether offering a non-monetary incentive as a token of appreciation increases response, thus reducing non-response bias and reducing costs associated with follow-up). A pressure-sealed reminder postcard is scheduled to be mailed approximately one week after the initial survey invite mailing. This strategy is being implemented to decrease the time gap during mailings and is more cost-effective than sending a paper questionnaire packet. The ability to send reminders enclosed with the pressure-seal system allows for the secure delivery of login information for the NSP web instrument as well as specific information about the survey. Additionally, the project will test contact materials, and test modifications to data collection strategies based on response from prior contact strategies.

In addition to testing non-monetary incentives, the 2019 NSP will evaluate different non-response follow-up mailing strategies by testing for response improvements using targeted paper questionnaires in mailing #3. Providing a respondent with an alternate, potential preferred mode sooner will be evaluated.

Third, we plan to experimentally evaluate the impact of adding SAMHSA letterhead to the contact materials for mailing #5. The Substance Abuse and Mental Health Services Administration is well known among the psychiatrists population. The familiarity for this relationship may impact a respondent's' likelihood to participate.

Finally, for respondents who experience technical problems with the web instrument, have questions about the survey, or need other forms of assistance, the 2019 NSP will have a Telephone Questionnaire Assistance (TQA) line available. TQA staff will not only be able to answer respondent questions and concerns, but also they will have the ability to collect survey responses over the phone. Respondents can call in and via an administrative access to the web instrument have interviewer assistance in completing the survey.

II. Methods of Collection

Web-Push

The 2019 NSP production plan is a web-push data collection design. All sample psychiatrists receive an initial invite to respond to the survey with instructions on how to complete the questionnaire via the web. The web-push production is broken out into two non-monetary incentive groups: The majority (80% of sampled psychiatrists), will receive a non-monetary incentive; a small group (20% of sampled psychiatrists), will not receive a non-monetary incentive, which allows the effectiveness of the non-monetary incentive to be evaluated. No additional incentives are planned for subsequent follow-up reminders or paper questionnaire mailings.

Mixed-Mode

The follow-up non-response mailings will include target paper mailings and eventually all non-response sample psychiatrists will receive a paper questionnaire.

III. Data

OMB Control Number: 0607-XXXX.

Form Number: NSP.

Type of Review: Regular submission.

Affected Public: Psychiatrists, researchers, and policymakers.

Estimated Number of Respondents: 12,000.

Estimated Time per Response: 20 minutes per response.

Estimated Total Annual Burden Hours: 4,000 hours.

Estimated Total Annual Cost to Public: $0 (This is not the cost of respondents' time, but the indirect costs respondents may incur for such things as purchases of specialized software or hardware needed to report, or expenditures for accounting or records maintenance services required specifically by the collection.)

Respondent's Obligation: Voluntary.

Legal Authority:

Census Authority: 13 U.S.C. 8(b).

SAMSHA Authority: 42 U.S.C. 290aa.

Confidentiality: The data collected under this agreement are confidential under 13 U.S.C. 9. All access to Title 13 data from this survey is restricted to those holding Census Bureau Special Sworn Status pursuant to 13 U.S.C. 23(c).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-02943 Filed 2-20-19; 8:45 am]

BILLING CODE 3510-07-P